GENERAL SERVICES ADMINISTRATION

[Notice-WWI-2015-04; Docket No. 2015-0006; Sequence 4]

World War One Centennial Commission; Notification of Opportunity To View Design Submissions for National World War I Memorial at Pershing Park

AGENCY: World War One Centennial Commission, GSA.

ACTION: Public Exhibition of Stage II Design Submittals.

SUMMARY: Notice of this opportunity is being provided according to the requirements of the Federal Advisory Committee Act, 5 U.S.C. App. 10(a)(2). This notice provides information about a public display of design submissions for the National World War I Memorial at Pershing Park.

DATES: Effective: December 3, 2015.

Dates for public viewing opportunities: December 14-22, 2015.

Dates and Location for Public Viewing Opportunities: The Stage II design submittals will be available for viewing in the John A. Wilson Building Atrium, at the Council of the District of Columbia, 1350 Pennsylvania Avenue NW., Washington, DC 20004. The Wilson Building is open from 9:00 a.m. to 5:30 p.m., Eastern Standard Time (EST). The Atrium is accessible through security screening on the ground floor from the D Street entrance (across from the Ronald Reagan Building), or (on weekdays only) via the Pennsylvania Avenue entrance, accessible down the stairs or elevators to the ground floor. This location has handicapped access. Visitors must show a government-issued ID to enter the building.

FOR FURTHER INFORMATION CONTACT: Daniel S. Dayton, Designated Federal Officer, c/o The Foundation for the Commemoration of the World Wars, 701 Pennsylvania Avenue NW., 123, Washington, DC 20004-2608, telephone number 202-380-0725 (note: this is not a toll-free number).

SUPPLEMENTARY INFORMATION:

Background

The World War One Centennial Commission was established by Public Law 112-272, as a commission to ensure a suitable observance of the centennial of World War I, to provide for the designation of memorials to the service of members of the United States Armed Forces in World War I, and for other purposes including the enhancement of Pershing Park site of the National World War I Memorial. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I.

Dated: November 30, 2015.
Daniel S. Dayton,
Designated Federal Official, World War I Centennial Commission.

[FR Doc. 2015-30600 Filed 12-2-15; 8:45 am]

BILLING CODE 9820-95-P